DEPARTMENT OF ENERGY

Federal Energy Regulatory Commission

[Docket No. CP20-37-000]

Texas Eastern Transmission, LP; Notice of Schedule for Environmental Review of the Lilly Compressor Units Replacement Project

On January 10, 2020, Texas Eastern Transmission, LP filed an application in Docket No. CP20-37-000 requesting a Certificate of Public Convenience and Necessity pursuant to Sections 7(c) of the Natural Gas Act to construct and operate certain natural gas pipeline facilities in Cambria County, Pennsylvania. The proposed project is known as the Lilly Compressor Unit Replacement Project (Project) and consists of Texas Eastern Transmission, LP's proposed replacement of four existing compressor units at the Lilly Compressor Station with two new more efficient turbine units.

On January 22, 2020, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA June 5, 2020

90-day Federal Authorization Decision Deadline September 3, 2020

If a schedule change becomes necessary, additional notice will be provided so that the relevant agencies are kept informed of the Project's progress.

Project Description

The Lilly Compressor Units Replacement Project would comprise replacing the four existing gas turbine units totaling 34,800 horsepower (hp) with two new, more efficient, 18,100 hp gas turbine units. Software controls would be installed on the two new units to limit the total station hp to 34,800 hp, keeping the delivery capacity at the station the same. The Project also involves the construction of a new compressor building to house the two new compressor units. All facilities are located in Cambria County, Pennsylvania.

Background

On February 25, 2020, the Commission issued a Notice of Intent to Prepare an Environmental Assessment for the Proposed Lilly Compressor Units Replacement Project and Request for Comments on Environmental Issues (NOI). The NOI was sent to affected landowners; federal, state, and local government agencies; elected officials; environmental and public interest groups; Native American tribes; other interested parties; and local libraries and newspapers. In response to the NOI, the Commission received no comments to date. All substantive comments will be addressed in the EA.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC website (www.ferc.gov). Using the eLibrary link, select General Search from the eLibrary menu, enter the selected date range and Docket Number excluding the last three digits (i.e., CP20-37), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: March 11, 2020.
Kimberly D. Bose,
Secretary.

[FR Doc. 2020-05459 Filed 3-16-20; 8:45 am]

BILLING CODE 6717-01-P